DEPARTMENT OF HEALTH AND HUMAN SERVICES

National Institutes of Health

Submission for OMB Review; Comment Request; NCI Cancer Genetics Services Directory Web-Based Application Form and Update Mailer

Summary: Under the provisions of Section 3507(a)(1)(D) of the Paperwork Reduction Act of 1995, the National Cancer Institute (NCI), and the National Institutes of Health (NIH), have submitted to the Office of Management and Budget (OMB) a request to review and approve the information collection listed below. This proposed information collection was previously published in the Federal Register on March 15, 2011 (76 FR 14034) and allowed 60-days for public comment. No public comments were received. The purpose of this notice is to allow an additional 30 days for public comment. The National Institutes of Health may not conduct or sponsor, and the respondent is not required to respond to, an information collection that has been extended, revised, or implemented on or after October 1, 1995, unless it displays a currently valid OMB control number.

Proposed Collection: Title: NCI Cancer Genetics Services Directory Web-based Application Form and Update Mailer. Type of Information Collection Request: Existing Collection in Use Without an OMB Number. Need and Use of Information Collection: The purpose of the online application form and the Web-based update mailer is to collect information about genetics professionals to be included in the NCI Cancer Genetics Services Directory on NCI's Cancer.gov Web site. The information collected includes name, practice locations, professional qualifications, and areas of specialization. Frequency of Response: Information is collected once via the online application form, and then updated annually via the Web-based mailer. Affected Public: Individuals. Type of Respondents: Genetics professionals including nurses, physicians, genetic counselors, and other professionals who provide services related to cancer genetics. The annual reporting burden is estimated at 180 hours (see Table below). There are no Capital Costs, Operating Costs, and/or Maintenance Costs to report.

Table 1—Estimates of Annual Burden Hours
Type of respondents | Tool | Number of respondents | Frequency of response | Average time per response minutes/hour (hours) | Annual burden hours
Genetics Professionals | Application Form | 60 | 1 | 30/60 (.50) | 30
| Web-based Update Mailer | 600 | 1 | 15/60 (0.25) | 150
Totals |  | 660 |  |  | 180

Request for Comments: Written comments and/or suggestions from the public and affected agencies should address one or more of the following points: (1) Evaluate whether the proposed collection of information is necessary for the proper performance of the function of the agency, including whether the information will have practical utility; (2) Evaluate the accuracy of the agency's estimate of the burden of the proposed collection of information, including the validity of the methodology and assumptions used; (3) Enhance the quality, utility, and clarity of the information to be collected; and (4) Minimize the burden of the collection of information on those who are to respond, including the use of appropriate automated, electronic, mechanical, or other technological collection techniques or other forms of information technology.

Direct Comments to OMB: Written comments and/or suggestions regarding the item(s) contained in this notice, especially regarding the estimated public burden and associated response time, should be directed to the Attention: NIH Desk Officer, Office of Management and Budget, at OIRA_submission@omb.eop.gov or by fax to 202-395-6974. To request more information on the proposed project or to obtain a copy of the data collection plans and instruments, contact Margaret Beckwith, Acting Branch Chief, International Cancer Research Databank Branch, Office of Cancer Content Management, Office of Communication and Education, National Cancer Institute, 6116 Executive Blvd., Rockville, MD 20852, or call non-toll-free number 301-496-9096 or e-mail your request, including your address to: mbeckwit@mail.nih.gov.

Comments Due Date: Comments regarding this information collection are best assured of having their full effect if received within 30 days of the date of this publication.

Dated: May 11, 2011.
Vivian Horovitch-Kelley,
NCI Project Clearance Liaison, National Institutes of Health.

[FR Doc. 2011-12047 Filed 5-16-11; 8:45 am]

BILLING CODE 4140-01-P